DEPARTMENT OF TRANSPORTATION

Federal Aviation Administration

14 CFR Part 39

[Docket No. FAA-2023-1713; Project Identifier MCAI-2023-00781-T; Amendment 39-22582; AD 2023-21-10]

RIN 2120-AA64

Airworthiness Directives; ATR—GIE Avions de Transport Régional Airplanes

AGENCY: Federal Aviation Administration (FAA), DOT.

ACTION: Final rule.

SUMMARY: The FAA is adopting a new airworthiness directive (AD) for certain ATR—GIE Avions de Transport Régional Model ATR42-500 and ATR72-212A airplanes. This AD was prompted by reports of loose fasteners and cracks in the horizontal stabilizer (HS) left- and right-hand leading edge lateral ribs, the box in between, the center box upper panel, and HS forward back-up fitting. This AD requires an inspection of the HS affected areas for discrepancies and applicable corrective action, as specified in a European Union Aviation Safety Agency (EASA) AD, which is incorporated by reference. The FAA is issuing this AD to address the unsafe condition on these products.

DATES: This AD is effective January 5, 2024.

The Director of the Federal Register approved the incorporation by reference of certain publications listed in this AD as of January 5, 2024.

ADDRESSES:

AD Docket: You may examine the AD docket at regulations.gov under Docket No. FAA-2023-1713; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material incorporated by reference in this AD, contact EASA, Konrad-Adenauer-Ufer 3, 50668 Cologne, Germany; telephone +49 221 8999 000; email ADs@easa.europa.eu; website easa.europa.eu. You may find this material on the EASA website at ad.easa.europa.eu.

• For ATR—GIE Avions de Transport Régional service information incorporated by reference in this AD, contact ATR—GIE Avions de Transport Régional, 1 Allée Pierre Nadot, 31712 Blagnac Cedex, France; telephone +33 (0) 5 62 21 62 21; fax +33 (0) 5 62 21 67 18; email continued.airworthiness@atr aircraft.com; website atr-aircraft.com.

• You may view this material at the FAA, Airworthiness Products Section, Operational Safety Branch, 2200 South 216th St., Des Moines, WA. For information on the availability of this material at the FAA, call 206-231-3195. It is also available in the AD docket at regulations.gov under Docket No. FAA-2023-1713.

FOR FURTHER INFORMATION CONTACT: Shahram Daneshmandi, Aviation Safety Engineer, FAA, 1600 Stewart Avenue, Suite 410, Westbury, NY 11590; telephone 206-231-3220; email shahram.daneshmandi@faa.gov.

SUPPLEMENTARY INFORMATION:

Background

The FAA issued a notice of proposed rulemaking (NPRM) to amend 14 CFR part 39 by adding an AD that would apply to certain ATR—GIE Avions de Transport Régional Model ATR42-500 and ATR72-212A airplanes. The NPRM published in the Federal Register on August 14, 2023 (88 FR 54944). The NPRM was prompted by AD 2023-0125, dated June 22, 2023, issued by EASA, which is the Technical Agent for the Member States of the European Union (EASA AD 2023-0125) (also referred to as the MCAI). The MCAI states that several occurrences of loose fasteners and cracks on the HS left- and right-hand leading edge lateral ribs, the box in between, the center box upper panel, and HS forward back-up fitting have been reported. Subsequent investigations identified possible manufacturing errors and a list of horizontal tail planes that could be affected by similar issues. This condition, if not detected and corrected, could reduce the structural integrity of the airplane.

In the NPRM, the FAA proposed to require an inspection of the HS affected areas (HS left-hand and right-hand leading edge lateral ribs, the box in between, the center box upper panel, and HS forward back-up fitting). for discrepancies and applicable corrective action, as specified in EASA AD 2023-0125. The FAA is issuing this AD to address loose, missing, or incorrectly installed fasteners, composite delamination, and cracks in the HS. The unsafe condition, if not addressed, could result in reduced structural integrity of the airplane.

You may examine the MCAI in the AD docket at regulations.gov under Docket No. FAA-2023-1713.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2023-0125 specifies procedures for a one-time detailed inspection of the HS left- and right-hand leading edge lateral ribs, the box in between, the center box upper panel, and HS forward back-up fitting for discrepancies (i.e., loose, missing, and incorrectly installed fasteners, composite delamination, and a cracked fitting); and applicable corrective action. The corrective action includes contacting the manufacturer for repair instructions if any discrepancy is detected during any inspection.

ATR Service Bulletin ATR42-55-0020, dated March 2, 2023; and ATR Service Bulletin ATR72-55-1013, dated March 2, 2023; identify the affected airplane serial numbers.

This material is reasonably available because the interested parties have access to it through their normal course of business or by the means identified in the ADDRESSES section.

Costs of Compliance

The FAA estimates that this AD affects 16 airplanes of U.S. registry. The FAA estimates the following costs to comply with this AD:

Estimated Costs for Required Actions
Labor cost | Parts cost | Cost per product | Cost on U.S. operators
8 work-hours × $85 per hour = $680 | $0 | $680 | $10,880

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-21-10 ATR—GIE Avions de Transport Régional: Amendment 39-22582; Docket No. FAA-2023-1713; Project Identifier MCAI-2023-00781-T.

(a) Effective Date

This airworthiness directive (AD) is effective January 5, 2024.

(b) Affected ADs

None.

(c) Applicability

This AD applies to ATR—GIE Avions de Transport Régional Model ATR42-500 and ATR72-212A airplanes, certificated in any category, as identified in ATR Service Bulletin ATR42-55-0020, dated March 2, 2023; or ATR Service Bulletin ATR72-55-1013, dated March 2, 2023; as applicable.

(d) Subject

Air Transport Association (ATA) of America Code: 55, Stabilizers.

(e) Unsafe Condition

This AD was prompted by reports of loose fasteners and cracks in the horizontal stabilizer (HS) left- and right-hand leading edge lateral ribs, the box in between, the center box upper panel, and HS forward back-up fitting. The FAA is issuing this AD to address loose, missing, or incorrectly installed fasteners, composite delamination, and cracks in the HS. The unsafe condition, if not addressed, could result in reduced structural integrity of the airplane.

(f) Compliance

Comply with this AD within the compliance times specified, unless already done.

(g) Requirements

Except as specified in paragraphs (h) and (i) of this AD: Comply with all required actions and compliance times specified in, and in accordance with, European Union Aviation Safety Agency (EASA) AD 2023-0125, dated June 22, 2023 (EASA AD 2023-0125).

(h) Exceptions to EASA AD 2023-0125

(1) Where paragraph (1) of EASA AD 2023-0125 refers to its effective date, this AD requires using the effective date of this AD.

(2) Where paragraph (2) of EASA AD 2023-0125 specifies to “contact ATR for approved repair instructions and, within the compliance time specified therein, accomplish those instructions accordingly” if any discrepancy is detected, for this AD if any crack is detected, the crack must be repaired before further flight using a method approved by the Manager, International Validation Branch, FAA; or EASA; or ATR—GIE Avions de Transport Régional's EASA Design Organization Approval (DOA). If approved by the DOA, the approval must include the DOA-authorized signature.

(3) This AD does not adopt the “Remarks” section of EASA AD 2023-0125.

(i) No Reporting Requirement

Although the service information referenced in EASA AD 2023-0125 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or ATR—GIE Avions de Transport Régional's EASA Design Organization Approval (DOA). If approved by the DOA, the approval must include the DOA-authorized signature.

(k) Additional Information

For more information about this AD, contact Shahram Daneshmandi, Aviation Safety Engineer, FAA, 1600 Stewart Avenue, Suite 410, Westbury, NY 11590; telephone 206-231-3220; email shahram.daneshmandi@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2023-0125, dated June 22, 2023.

(ii) ATR Service Bulletin ATR42-55-0020, dated March 2, 2023.

(iii) ATR Service Bulletin ATR72-55-1013, dated March 2, 2023.

(3) For EASA AD 2023-0125, contact EASA, Konrad-Adenauer-Ufer 3, 50668 Cologne, Germany; telephone +49 221 8999 000; email ADs@easa.europa.eu; website easa.europa.eu. You may find this EASA AD on the EASA website ad.easa.europa.eu.

(4) For ATR service information identified in this AD, contact ATR—GIE Avions de Transport Régional, 1 Allée Pierre Nadot, 31712 Blagnac Cedex, France; telephone +33 (0) 5 62 21 62 21; fax +33 (0) 5 62 21 67 18; email continued.airworthiness@atr aircraft.com; website atr-aircraft.com.

(5) You may view this material at the FAA, Airworthiness Products Section, Operational Safety Branch, 2200 South 216th Street, Des Moines, WA. For information on the availability of this material at the FAA, call 206-231-3195.

(6) You may view this material at the National Archives and Records Administration (NARA). For information on the availability of this material at NARA, visit: www.archives.gov/federal-register/cfr/ibr-locations or email fr.inspection@nara.gov.

Issued on October 20, 2023.
Ross Landes,
Deputy Director for Regulatory Operations, Compliance & Airworthiness Division, Aircraft Certification Service.

[FR Doc. 2023-26381 Filed 11-30-23; 8:45 am]

BILLING CODE 4910-13-P